OFFICE OF PERSONNEL MANAGEMENT

Privacy Act of 1974: Revised System of Records

AGENCY: U.S. Office of Personnel Management (OPM).

ACTION: Notice of a revised system of records.

SUMMARY: The Office of Personnel Management (OPM) is revising a system of records in its inventory of record systems subject to the Privacy Act of 1974 (5 U.S.C. 552a), as amended.

DATES: The revisions will be effective without further notice forty (40) calendar days from the date of this publication, unless we receive comments that result in a contrary determination.

ADDRESSES: Send written comments to the Program Manager for the Freedom of Information and Privacy Act office, National Background Investigations Bureau, 1137 Branchton Road, PO Box 618, Boyers, Pennsylvania 16018.

FOR FURTHER INFORMATION CONTACT: Program Manager, Freedom of Information and Privacy Act office, NBIBSORN@opm.gov.

SUPPLEMENTARY INFORMATION: In accordance with the Privacy Act of 1974, 5 U.S.C. 552a, as amended, OPM, National Background Investigations Bureau is revising the Personnel Investigations Records (OPM/Central-9) system of records. The records in this system may be used to provide investigatory information for determinations concerning whether an individual is or continues to be suitable or fit for Government employment or military service; eligible for logical and physical access to federally controlled facilities and information systems; eligible to hold a sensitive position (including but not limited to eligibility for access to classified information); fit to perform work for or on behalf of the Government as an employee of a contractor; qualified for Government service; qualified to perform contractual services for the Government; and loyal to the United States. The system is also used to document such determinations.

OPM is revising OPM/Central-9, Personnel Investigations Records, by adding two categories of individuals, namely, individuals who are applicants or employees of the District of Columbia Public Schools, and individuals about whom OPM has provided an adjudication advisory opinion at the request of another Federal agency's adjudication or security office.

OPM is updating and adding categories of records to ensure consistency with the Federal Investigative Standards. Specifically, OPM is amending record category “a” to acknowledge that under the Federal Investigative Standards, OPM/Central-9 may include civil and criminal fingerprint histories, bureau of vital statistics records, publicly-available electronic information, and prior security clearance and investigative information related to spouses and cohabitants. OPM is amending record category “e” to clarify that records include “credentialing” records, formerly referred to as “HSPD-12” records. OPM is adding record category “f” to acknowledge that records include electronic submissions in OPM's Electronic Questionnaires for Investigative Processing (e-QIP) system.

OPM is revising the language in the already existing purposes and adding new purposes for which the records are used. The revisions to existing purposes and new purposes are consistent with the purpose for which the records were originally collected, as described above. The revised language clarifies that background investigations include investigations related to military service; that the authority for OPM to use the data for personnel research is 5 U.S.C. 1103(a)(8); and that initiatives to make background investigations more effective and efficient may be undertaken either by OPM or by the Office of the Director of National Intelligence. The new purposes are for supporting legally-authorized homeland security, law enforcement, intelligence, and insider threat detection and prevention activities.

OPM is updating the system's authority citation; adding an explanation of procedures for agencies holding decentralized segments of OPM/Central-9; adding new routine uses and revising the language in the already existing routine uses; updating the safeguards for records in the system; defining new requirements for notification, access, and amendment procedures; revising the record source categories; revising language in the section on exempted records; and, adding language reserving the right to assert exemptions for records received from another agency that could be properly claimed by that agency in responding to a request and to refuse access to information compiled in reasonable anticipation of a civil action or proceeding. Additionally, OPM is noting two edits in the Security Classification and Amendment Procedures sections to correct verbiage that is misquoted online in the Federal Register SORN Compilations.

Specifically regarding the addition of new routine uses and revision of existing routine uses, OPM is making the following revisions:

• To eliminate unnecessary duplication, OPM combined four existing routine uses related to background investigations, adjudications, employment, and contracting (formerly routine uses a, b, c, and g) into three routine uses (a, e, and aa), while making clarifying changes to their text.

• OPM has incorporated, as routine uses l through q, the text of six routine uses from the OPM Prefatory Statement of Routine Uses for Internal and Central Systems of Records, which we previously incorporated only by reference. We revised one of these routine uses—related to disclosure of information for equal employment opportunity (EEO) activities—to eliminate obsolete text related to certain compliance matters, and to add text related to matters for which the records may be used (in processing Federal-sector EEO complaints).

• OPM has revised the language of an existing routine use (now routine use b) to permit release of records to any element of the U.S. intelligence community for use in intelligence activities for the purpose of protecting United States national security interests.

• OPM has added a new routine use x for release of records to insider threat, counterintelligence, and counterterrorism officials, consistent with E.O. 13587 of October 7, 2011.

• OPM has revised an existing routine use and added an additional routine use (now routine uses j and k) for release of records in connection with data breach detection, prevention, and remediation, based on new Office of Management and Budget guidance.

• OPM has added routine uses r and s for release of records to an agency Office of Inspector General for investigations of misconduct or fraud and the performance of audit authorities under the Inspector General Act of 1978.

• OPM has added routine use t for release of records related to unemployment claims.

• OPM has added routine use u for the release of records to appropriately-cleared individuals to determine whether information is or should be classified.

• OPM has added two routine uses (v and w) for release of records to the Director of National Intelligence consistent with section 3001 of the Intelligence Reform and Terrorism Prevention Act of 2004, and E.O. 13467 of June 30, 2008.

• OPM has added routine use y for the release of records to Federal, State, local, tribal, foreign, or other public authority in the event of a natural or manmade disaster.

• OPM has added routine use z for the release of records to Federal, State, and local government agencies, if necessary, to obtain information from them which will assist OPM in its responsibilities as an authorized Investigation Service Provider to evaluate and improve the effectiveness and efficiency of background investigation methodologies.

• OPM has eliminated, as obsolete, application to this system of records of one prefatory routine use (routine use 6) related to statistical studies.

• OPM has eliminated, as obsolete, former routine use i, for furnishing information to the Office of Management and Budget in connection with the coordination and clearance of private relief legislation.

• Former routine uses e, f, j, k, and l have been renumbered as routine uses c, d, g, h, and i.

OPM notes that individuals seeking records of investigations performed by other investigative agencies, which have their own systems of records, should contact those agencies instead of the Office of Personnel Management.

What is the authority for maintaining the OPM/Central-9, Personnel Investigations Records?

Depending on the purpose of the investigation, the Executive Orders (E.O.s) 9397, 10450, 10577, 10865, 12333, 12968, and 13467, as amended; E.O.s 13488 and 13549; 5 U.S.C. 1103, 1302, 1303, 1304, 3301, 7301, 9101, and 11001; 22 U.S.C. 272b, 290a, and 2519; 31 U.S.C. 1537; 42 U.S.C. 1874(b)(3), 2165, 2201, and 20132; 50 U.S.C. 3341; Public Law 108-136; 5 CFR parts 2, 5, 731, 732, 736, and 1400; and Homeland Security Presidential Directive 12 (HSPD 12).

What is the probable or potential individual privacy effect on amending and updating the OPM/Central 9, Personnel Investigations Records?

The probable or potential effect on individual privacy is limited. Additional routine uses of the information have been added which are still consistent with the purpose for which we collect the information. Records in OPM/Central-9 continue to be restricted to individuals who have undergone the appropriate background investigation and have a need to know in order to perform their official duties or to recipients as is consistent with the conditions of disclosures under the Privacy Act to include the routine uses published in the System of Records Notice.

U.S. Office of Personnel Management.
Beth F. Cobert,
Acting Director.

Office of Personnel Management

OPM/CENTRAL-9

System name:

Personnel Investigations Records

Security Classification:

None for the system. However, records within the system may have national security/foreign policy classifications up through Top Secret.

System Location(s):

a. National Background Investigations Bureau (NBIB), P.O. Box 618, 1137 Branchton Road, Boyers, PA 16018-0618.

b. Records may be maintained in various NBIB field offices, including the Personnel Investigations Center, 601 10th Street, Fort Meade, MD, for limited periods of time. These records would include investigative and administrative records, including files and duplicate records or records which extract information from the main files. This is necessary to assist field offices in their day to day operations. Investigative activities conducted by field offices are reported to NBIB headquarters at one or more stages of the background investigation process. Upon completion of activities to include fieldwork, quality review, and/or adjudicative action, documents are returned to NBIB headquarters or destroyed in accordance with the published retention schedule.

c. Decentralized segments: When OPM discloses a record maintained as part of the Central-9 system of records, the disclosed record shall be considered a “decentralized copy”. A recipient agency that maintains a decentralized copy of a Central-9 record maintains what is referred to as a “decentralized segment” of the Central-9 system of records. Decentralized segments may be maintained as part of a recipient agency's system of records, however, they remain subject to the policies and practice described below. Recipient agencies shall only maintain a decentralized copy of a record for an authorized purpose and for as long as the subject of the decentralized copy remains of interest to the recipient agency. These copies may be located in the personnel security office or other designated offices responsible for making suitability, fitness, security clearance, access, HSPD 12 credentialing decisions, decisions about eligibility for assignment to or retention in sensitive national security positions or acceptance or retention in the armed forces, or hiring determinations on an individual. The use, custody, retention, and release of decentralized segments is described in greater detail as follows:

• Use and custody: Reports of investigation were removed from OPM's Governmentwide systems of records and placed in OPM's Central systems of records in 1979 because they are physically maintained by OPM in a central repository, consist of records of both OPM and other agencies' employees, and are not maintained by other agencies under OPM direction. 44 FR 30836 (May 29, 1979). An agency's “internal security records” may include “the informational copy of the Commission's (OPM's) report of investigation (provided to agencies on a temporary basis) . . . along with agency-created security data” so long as the subject of the report remains of interest to the agency for an authorized purpose. 44 FR at 30836-37; see this Notice's Purpose statement. Internal agency review of the record, for the purpose it was given to the recipient agency or another purpose described in this notice, is permissible. However, the decentralized copy remains a part of the OPM/Central-9 system of records even while the copy is in the recipient agency's custody; under 5 CFR 297.104(b), all records in Central systems of records are established and maintained by OPM (in contrast, Governmentwide systems are maintained both by OPM and by the agencies with custody over them under 5 CFR 297.104(c)).

• Retention: Decentralized copies should be retained consistent with the guidance defined in applicable NARA General Records Schedules. Under NARA General Records Schedule 18, Part 22 (b), investigative reports and related documents furnished to an agency by OPM should be destroyed in accordance with OPM's instructions. OPM instructs that the records may be maintained only so long as the subject of the report remains of interest to the agency for a purpose defined in this Notice. Upon separation or when the subject is no longer of interest to the agency, the agency must dispose of any/all background investigation records.

• Privacy Act requests for reports of investigation: Under 5 CFR 297.105(c), only OPM responds to initial Privacy Act requests for records in an OPM Central system of records. If an agency receives, from the subject of a report, a request for access or amendment, the agency should contact the OPM NBIB Freedom of Information and Privacy Act (FOI/PA) office and refer that request to OPM accordingly. OPM NBIB's FOI/PA office will make an access or amendment determination under the Privacy Act.

• FOIA, Routine Use Releases, and Releases based upon a Privacy Act Condition of Disclosure: Section 9(c) of Executive Order 10450 states that copies of reports of investigation held by agencies “remain the property of” OPM and restricts agencies from redisclosing reports without OPM permission. In addition, the reports may include other government agency data that was disclosed to OPM with redisclosure limitations. For these reasons an agency that seeks to internally redisclose an OPM report of investigation for a purpose not described in this Notice, or to externally redisclose an OPM report of investigation for any purpose, should first contact the OPM NBIB Freedom of Information and Privacy Act (FOI/PA) office. OPM NBIB's FOI/PA office will make a release determination by applying the routine uses described in this Notice or other uses prescribed in 5 U.S.C. 552a(b); or, in the case of a FOIA referral, by applying the FOIA. Alternatively if the record will be used in a legal proceeding that has commenced, the agency should contact OPM's Office of General Counsel under 5 CFR part 295. Because the disclosure is made from OPM/Central-9, even if made by the agency under OPM's direction, OPM will record all required disclosure accountings for routine use releases. It is therefore unnecessary for the agency to make a separate decision of whether to disclose the report from its internal systems of records.

Categories of individuals covered by the system:

a. Civilian and military applicants and Federal employees or employees of government contractors, experts, instructors, and consultants to Federal programs who undergo a personnel background investigation for the purpose of determining suitability for government employment, fitness for appointment to an excepted service position, fitness to perform work under a Government contract, eligibility to serve in a national security sensitive position, acceptance or retention in the armed forces, eligibility for access to classified information, and/or eligibility for logical or physical access to a federally controlled facility or information technology system.

b. Individuals who are current or former employees or applicants for employment with International Organizations.

c. Individuals considered for assignment as representatives of the Federal Government in volunteer programs.

d. Individuals who are neither applicants nor employees of the Federal Government, but who are or were involved in Federal programs under a co-operative assignment or under a similar agreement.

e. Individuals who are neither applicants nor employees of the Federal Government, but who are or were involved in matters related to the administration of the merit system.

f. State, Local, Tribal and Private Sector partners identified by Federal sponsors for eligibility to access classified information in support of homeland defense initiatives.

g. Individuals who are applicants or employees of the District of Columbia Public Schools.

h. Individuals about whom OPM has provided an adjudication advisory opinion at the request of another Federal agency's adjudication or security office.

Categories of records in the system:

a. Records containing the following information about the individual investigated may be maintained: Name, former names, and aliases; date and place of birth; Social Security Number; height; weight; hair and eye color; gender; mother's maiden name; current and former home addresses, phone numbers, and email addresses; employment history; military record information; selective service registration record; residential history; education and degrees earned; names of associates and references with their contact information; citizenship; passport information; criminal history record information; criminal or civil fingerprint history information; civil court actions; bureau of vital statistics records; publicly available electronic information; prior and current security clearance and investigative information, including information from the U.S. Intelligence Community; mental health history; records related to drug and/or alcohol use; financial record information; information from the Internal Revenue Service pertaining to income tax returns; credit reports; the name, date and place of birth, Social Security Number, citizenship information, criminal history, and prior security clearance and investigative information for spouse or cohabitant; the name and marriage information for current and former spouse(s); the citizenship, name, date and place of birth, and address for relatives; information on foreign contacts and activities; association records; information on loyalty to the United States; and other agency reports furnished to OPM in connection with the background investigation process, and other information developed from above.

b. Summaries of personal and third party interviews conducted during the course of the background investigation.

c. Correspondence relating to adjudication matters and results of suitability decisions in cases adjudicated by the OPM in accordance with 5 CFR part 731.

d. Records of personnel background investigations conducted by other Federal agencies.

e. Records of adjudicative and credentialing decisions by other Federal agencies, including clearance determinations and/or indicators that polygraph(s) were administered.

f. Records of electronic investigative forms completed by the subject and/or submitted to other Federal Agencies that utilize the Electronic Questionnaires for Investigations Processing (e-QIP) system.

Note: This system does not include agency records of a personnel investigative nature that do not come to OPM

Authority for maintenance of the system:

Depending on the purpose of the investigation, Executive Orders (E.O.s) 9397, 10450, 10577, 10865, 12333, 12968, and 13467, as amended; E.O.s 13488 and 13549; 5 U.S.C. 1103, 1302, 1303, 1304, 3301, 7301, 9101, and 11001; 22 U.S.C. 272b, 290a, 2519; 31 U.S.C. 1537; 42 U.S.C. 1874(b)(3), 2165, 2201, and 20132; 50 U.S.C. 3341; Public Law 108-136; 5 CFR parts 2, 5, 731, 732, 736, and 1400; and Homeland Security Presidential Directive 12 (HSPD 12).

Purpose(s):

The records in this system may be used to provide investigatory information for determinations concerning whether an individual is or continues to be suitable or fit for Government employment or military service; eligible for logical and physical access to federally controlled facilities and information systems; eligible to hold a sensitive position (including but not limited to eligibility for access to classified information); fit to perform work for or on behalf of the Government as an employee of a contractor; qualified for Government service; qualified to perform contractual services for the Government; and loyal to the United States. The system is also used to document such determinations.

To otherwise comply with mandates and Executive Orders.

The records may be used to locate individuals for personnel research conducted under 5 U.S.C. 1103(a)(8).

The records may be used by OPM and the Office of the Director of National Intelligence to streamline and make more effective and efficient the investigations and adjudications processes generally.

The records may be used in support of legally authorized U.S. homeland security, law enforcement, intelligence and/or insider threat program functions to identify whether an individual poses a terrorism, foreign intelligence, and/or insider threat to the United States.

The records may be used in support of Executive Order 13549 and related implementing directives supporting homeland security matters.

The records may be used to assist in legally authorized intelligence activities, including threat analyses and damage assessments.

Routine uses of records maintained in the system, including categories of users and the purposes of such uses:

In addition to those disclosures generally permitted under 5 U.S.C. 552a(b) of the Privacy Act, all or a portion of the records of information contained in this system may be disclosed outside OPM as a routine use pursuant to 5 U.S.C. 552a(b)(3). OPM provides a report of investigation to an agency only for a specified purpose, as described in this Notice. Internal agency review of the record, for the purpose it was given to the recipient agency or another purpose described in this Notice, is permissible. Any other disclosure requires OPM's consent as described in the System Location section of this Notice. The routine uses listed below are specific to this system of records only:

a. To designated officers and employees of agencies, offices, and other establishments in the executive, legislative, and judicial branches of the Federal Government or the Government of the District of Columbia having a need to investigate, evaluate, or make a determination regarding loyalty to the United States; qualifications, suitability, or fitness for Government employment or military service; eligibility for logical or physical access to federally-controlled facilities or information systems; eligibility for access to classified information or to hold a sensitive position; qualifications or fitness to perform work for or on behalf of the Government under contract, grant, or other agreement; or access to restricted areas.

b. To an element of the U.S. Intelligence Community as identified in E.O. 12333, as amended, for use in intelligence activities for the purpose of protecting United States national security interests.

c. To any source from which information is requested in the course of an investigation, to the extent necessary to identify the individual, inform the source of the nature and purpose of the investigation, and to identify the type of information requested.

d. To the appropriate Federal, state, local, tribal, foreign, or other public authority responsible for investigating, prosecuting, enforcing, or implementing a statute, rule, regulation, or order where OPM becomes aware of an indication of a violation or potential violation of civil or criminal law or regulation.

e. To an agency, office, or other establishment in the executive, legislative, or judicial branches of the Federal Government in response to its request, in connection with its current employee's, contractor employee's, or military member's retention; loyalty; qualifications, suitability, or fitness for employment; eligibility for logical or physical access to federally-controlled facilities or information systems; eligibility for access to classified information or to hold a sensitive position; qualifications or fitness to perform work for or on behalf of the Government under contract, grant, or other agreement; or access to restricted areas.

f. To provide information to a congressional office from the record of an individual in response to an inquiry from the congressional office made at the request of that individual. However, the investigative file, or parts thereof, will only be released to a congressional office if OPM receives a notarized authorization or signed statement under 28 U.S.C. 1746 from the subject of the investigation.

g. To disclose information to contractors, grantees, or volunteers performing or working on a contract, service, grant, cooperative agreement, or job for the Federal Government.

h. For agencies that use adjudicative support services of another agency, at the request of the original agency, the results will be furnished to the agency providing the adjudicative support.

i. To provide criminal history record information to the FBI, to help ensure the accuracy and completeness of FBI and OPM records.

j. To appropriate agencies, entities, and persons when (1) OPM suspects or has confirmed that there has been a breach of the system of records; (2) OPM has determined that as a result of the suspected or confirmed breach there is a risk of harm to individuals, the agency (including its information systems, programs and operations), the Federal Government, or national security; and (3) the disclosure made to such agencies, entities, and persons is reasonably necessary to assist in connection with OPM's efforts to respond to the suspected or confirmed breach or to prevent, minimize, or remedy such harm.

k. To another Federal agency or Federal entity, when OPM determines that information from this system of records is reasonably necessary to assist the recipient agency or entity in (1) responding to a suspected or confirmed breach or (2) preventing, minimizing, or remedying the risk of harm to individuals, the agency (including its information systems, programs and operations), the Federal Government, or national security, resulting from a suspected or confirmed breach.

l. To disclose information to another Federal agency, to a court, or a party in litigation before a court or in an administrative proceeding being conducted by a Federal agency, when the Government is a party to the judicial or administrative proceeding. In those cases where the Government is not a party to the proceeding, records may be disclosed if a subpoena has been signed by a judge.

m. To disclose information to the National Archives and Records Administration for use in records management inspections.

n. To disclose information to the Department of Justice, or in a proceeding before a court, adjudicative body, or other administrative body before which OPM is authorized to appear, when:

(1) OPM, or any component thereof; or

(2) Any employee of OPM in his or her official capacity; or

(3) Any employee of OPM in his or her individual capacity where the Department of Justice or OPM has agreed to represent the employee; or

(4) The United States, when OPM determines that litigation is likely to affect OPM or any of its components;is a party to litigation or has an interest in such litigation, and the use of such records by the Department of Justice or OPM is deemed by OPM to be relevant and necessary to the litigation, provided, however, that the disclosure is compatible with the purpose for which records were collected.

o. For the Merit Systems Protection Board—To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

p. To disclose information to an agency Equal Employment Opportunity (EEO) office or to the Equal Employment Opportunity Commission when requested in connection with investigations into alleged or possible discrimination practices in the Federal sector, or in the processing of a Federal-sector EEO complaint.

q. To disclose information to the Federal Labor Relations Authority or its General Counsel when requested in connection with investigations of allegations of unfair labor practices or matters before the Federal Service Impasses Panel.

r. To another Federal agency's Office of Inspector General when OPM becomes aware of an indication of misconduct or fraud during the applicant's submission of the standard forms.

s. To another Federal agency's Office of Inspector General in connection with its inspection or audit activity of the investigative or adjudicative processes and procedures of its agency as authorized by the Inspector General Act of 1978, as amended, exclusive of requests for civil or criminal law enforcement activities.

t. To a Federal agency or state unemployment compensation office upon its request in order to adjudicate a claim for unemployment compensation benefits when the claim for benefits is made as the result of a qualifications, suitability, fitness, security, identity credential, or access determination.

u. To appropriately cleared individuals in Federal agencies, to determine whether information obtained in the course of processing the background investigation is or should be classified.

v. To the Office of the Director of National Intelligence for inclusion in its Scattered Castles system in order to facilitate reciprocity of background investigations and security clearances within the intelligence community or assist agencies in obtaining information required by the Federal Investigative Standards.

w. To the Director of National Intelligence, or assignee, such information as may be requested and relevant to implement the responsibilities of the Security Executive Agent for personnel security, and pertinent personnel security research and oversight, consistent with law or executive order.

x. To Executive Branch Agency insider threat, counterintelligence, and counterterrorism officials to fulfill their responsibilities under applicable Federal law and policy, including but not limited to E.O. 12333, 13587 and the National Insider Threat Policy and Minimum Standards.

y. To the appropriate Federal, State, local, tribal, foreign, or other public authority in the event of a natural or manmade disaster. The record will be used to provide leads to assist in locating missing subjects or assist in determining the health and safety of the subject. The record will also be used to assist in identifying victims and locating any surviving next of kin.

z. To Federal, State, and local government agencies, if necessary, to obtain information from them which will assist OPM in its responsibilities as the authorized Investigation Service Provider in conducting studies and analyses in support of evaluating and improving the effectiveness and efficiency of the background investigation methodologies.

aa. To an agency, office, or other establishment in the executive, legislative, or judicial branches of the Federal Government in response to its request, in connection with the classifying of jobs, the letting of a contract, or the issuance of a license, grant, or other benefit by the requesting agency, to the extent that the information is relevant and necessary to the requesting agency's decision on the matter.

Policies and practice for storing, retrieving, accessing, retaining and disposing of records in the system:

Storage:

Records are maintained in paper format in file folders, on microfilm, as digital images, on computer tapes, and in electronic databases such as the Personnel Investigations Processing System, the Central Verification System, and the e-QIP system.

Retrievability:

Records are retrieved by the name, Social Security Number, unique case serial number and/or other unique identifier of the individual on whom they are maintained.

Safeguards:

Paper files are stored in a locked filing cabinet or a secure facility with an intrusion alarm system. Microfilm is secured in a facility with an intrusion system. Electronic records are maintained on secure servers in a limited access room with a keyless cipher lock and/or smart card reader. All employees who have a need to access the information are required to have the appropriate investigation consistent with the risk and sensitivity designation of that position, and the investigation must be favorably adjudicated or an interim access be granted before they are allowed access to the records.

The U.S. Postal Service and other postal providers are used to transmit hard copy records sent to and from field offices. Information that is transmitted electronically from field offices is encrypted.

Retention and disposal:

Investigative files and the computerized data bases which show the scheduling or completion of an investigation are retained for 16 years from the date of closing or the date of the most recent investigative activity, whichever is later, except for investigations involving potentially actionable issue(s), which will be maintained for 25 years from the date of closing or the date of the most recent investigative activity.

The digital capture of a fingerprint card set is forwarded to the Federal Bureau of Investigation, and the card is destroyed when it is verified that the digital copy was accurately captured and transferred.

Hard copy records are destroyed by shredding and recycling, and computerized records are destroyed by electronic erasure.

System manager(s) and address:

Director, National Background Investigations Bureau, U.S. Office of Personnel Management, P.O. Box 618, 1137 Branchton Road, Boyers, PA 16018.

Notification and record access procedures:

Specific materials in this system have been exempted from Privacy Act provisions at 5 U.S.C. 552a(c)(3), (d), and (e)(1), regarding providing an accounting of disclosures to the data subject, access to and amendment of records, and maintaining in its records only such information that is relevant and necessary. The section of this notice titled Systems Exempted from Certain Provisions of the Act indicates the kinds of material exempted and the reasons for exempting them from access.

Individuals wishing to learn whether this system contains information about them or wishing to request access to their record should contact: FOI/PA, Office of Personnel Management, National Background Investigations Bureau, P.O. Box 618, 1137 Branchton Road, Boyers, PA 16018-0618, in writing. Written requests must contain the following information:

a. Full name.

b. Date and place of birth.

c. Full Social Security Number.

d. Any available information regarding the type of record involved.

e. The address to which the record information should be sent.

f. Two forms of acceptable identity source documents.

g. An original notarized statement or an unsworn declaration in accordance with 28 U.S.C. 1746, in the following format: I declare (or certify, verify, or state) under penalty of perjury that the foregoing is true and correct. Executed on (date). (Signature).

An attorney or other persons acting on behalf of an individual must provide written authorization from that individual for the representative to act on the individual's behalf. The written authorization must also include an original notarized statement or an unsworn declaration in accordance with 28 U.S.C. 1746, in the following format: I declare (or certify, verify, or state) under penalty of perjury that the foregoing is true and correct. Executed on (date). (Signature).

Individuals requesting access must also comply with OPM's Privacy Act regulations regarding verification of identity and access to records (5 CFR part 297).

A detailed list of acceptable identity source documents can be found on the OPM Web site at https://www.opm.gov/investigations/freedom-of-information-and-privacy-act-requests/.

Amendment procedures:

Specific materials in this system have been exempted from Privacy Act provisions at 5 U.S.C. 552a(c)(3), (d), and (e)(1), regarding providing an accounting of disclosures to the data subject, access to and amendment of records, and maintaining in its records only such information that is relevant and necessary. The section of this notice titled Systems Exempted from Certain Provisions of the Act indicates the kinds of material exempted and the reasons for exempting them from amendment.

Individuals wishing to request amendment to their non-exempt records should contact the Federal Investigations Processing Center in writing. Requests should be directed only to the OPM National Background Investigations Bureau, whether the record sought is in the primary system or in an agency's decentralized segment. Individuals must furnish the following information for their records to be located and identified:

a. Full name.

b. Date and place of birth.

c. Full Social Security Number.

d. The precise identification of the records to be amended.

e. The identification of the specific material to be deleted, added, or changed.

f. A statement of the reasons for the request, including all available material substantiating the request.

g. The address to which correspondence should be sent.

h. Two forms of acceptable identity source documents.

i. An original notarized statement or an unsworn declaration in accordance with 28 U.S.C. 1746, in the following format: I declare (or certify, verify, or state) under penalty of perjury that the foregoing is true and correct. Executed on (date). (Signature).

An attorney or other person acting on behalf of an individual must provide written authorization from that individual for the representative to act on the individual's behalf. The written authorization must also include an original notarized statement or an unsworn declaration in accordance with 28 U.S.C. 1746, in the following format: I declare (or certify, verify, or state) under penalty of perjury that the foregoing is true and correct. Executed on (date). (Signature).

Individuals requesting amendment must also comply with OPM's Privacy Act regulations regarding verification of identity and amendment of records (5 CFR part 297).

A detailed list of acceptable identity source documents can be found on the OPM Web site at https://www.opm.gov/investigations/freedom-of-information-and-privacy-act-requests/.

Note: Where an agency retains the decentralized copy of the investigative report provided by OPM, requests for access to or amendment of such reports will be forwarded to the OPM National Background Investigations Bureau for processing.

Record source categories:

Information contained in this system of records is obtained from:

a. Electronic and paper applications, personnel and security forms or other information completed or supplied by the individual, and the results of personal contacts with the individual.

b. Investigative and other record material furnished by Federal agencies, including notices of personnel actions.

c. By personal investigation, written inquiry, or computer linkage from sources such as employers, educational institutions, references, neighbors, associates, police departments, courts, credit bureaus, medical records, probation officials, prison officials, and other sources, including publically available information such as newspapers, magazines, periodicals, and public posts on social media.

Systems exempted from certain provisions of the act:

OPM has claimed that all information in these records that meets the criteria stated in 5 U.S.C. 552a(k) (1), (2), (3), (4), (5), (6), or (7) is exempt from the requirements of the Privacy Act that relate to providing an accounting of disclosures to the data subject, access to and amendment of records, and maintaining in its records only such information that is relevant and necessary. (5 U.S.C. 552a(c)(3), (d), and (e)(1)).

This system may contain the following types of exempt information:

1. Properly classified information subject to the provisions of section 552(b)(1), which references matters that are “(A) specifically authorized under criteria established by an Executive order to be kept secret in the interest of national defense or foreign policy and (B) are in fact properly classified pursuant to such Executive order.” 5 U.S.C. 552a(k)(1).

2. “[I]nvestigatory material compiled for law enforcement purposes, other than material within the scope of subsection (j)(2) of [5 U.S.C. 552a]: Provided, however, [t]hat if any individual is denied any right, privilege, or benefit that he would otherwise be entitled by Federal law, or for which he would otherwise be eligible, as a result of the maintenance of such material, such material shall be provided to such individual, except to the extent that the disclosure of such material would reveal the identity of a source who furnished information to the Government under an express promise that the identity of the source would be held in confidence, or, prior to the effective date of this section, under an implied promise that the identity of the source would be held in confidence[.]” 5 U.S.C. 552a(k)(2).

3. Information “maintained in connection with providing protective services to the President of the United States or other individuals pursuant to section 3056 of title 18 [of the U.S. Code].” 5 U.S.C. 552a(k)(3).

4. Material that is “required by statute to be maintained and used solely as a statistical record.” 5 U.S.C. 552a(k)(4).

5. “[I]nvestigatory material compiled solely for the purpose of determining suitability, eligibility, or qualifications for Federal civilian employment, military service, Federal contracts, or access to classified information . . . .” 5 U.S.C. 552a(k)(5). Materials may be exempted only to the extent that release of the material to the individual whom the information is about “would reveal the identity of a source who furnished information to the Government under an express promise that the identity of the source would be held in confidence or, prior to [September 27, 1975, furnished information to the Government] under an implied promise that the identity of the source would be held in confidence.” Id.

6. Testing and examination materials, compiled during the course of a personnel investigation, that are “used solely to determine individual qualifications for appointment or promotion in the Federal service,” when disclosure of the material “would compromise the objectivity or fairness of the testing or examination process.” 5 U.S.C. 552a(k)(6).

7. Evaluation materials, compiled during the course of a personnel investigation, that are used to determine potential for promotion in the armed services can be exempted to the extent that the disclosure of the data “would reveal the identity of a source who furnished information to the Government under an express promise that the identity of the source would be held in confidence or, prior to [September 27, 1975,] under an implied promise that the identity of the source would be held in confidence.” 5 U.S.C. 552a(k)(7).

These exemptions are codified by regulation in 5 CFR 297.501(b)(5). In addition, under 5 CFR 297.501(c), OPM reserves the right to assert exemptions for records received from another agency that could be properly claimed by that agency in responding to a request; and to refuse access to information compiled in reasonable anticipation of a civil action or proceeding. Under this regulation OPM may assert exemption (j)(1) on behalf of an agency authorized to assert it.

[FR Doc. 2016-24507 Filed 10-7-16; 8:45 am]

BILLING CODE 6325-53-P